NATIONAL FOUNDATION ON THE ARTS AND THE HUMANITIES

Institute of Museum and Library Services

Notice To Announce Request for Information for the Modification of the Eligibility Requirements for the Native American Library Services Enhancement Grants Program

AGENCY: Institute of Museum and Library Services, National Foundation on the Arts and the Humanities .

ACTION: Request for information.

SUMMARY: This Request for Information (RFI) is intended to gather broad input to assist the Institute of Museum and Library Services (IMLS) in making a determination whether or not to modify the eligibility requirements for the Native American Library Services Enhancement Grants program (Enhancement Grant). Currently, to be eligible for Enhancement Grant funding, an applicant is required to first submit a Native American Library Services Basic Grant (Basic Grant) application in the same year. IMLS is considering the elimination of this specific eligibility requirement to reduce application and administrative burdens for applicants and awardees and to allow applicants to choose the grant program(s) best suited to their needs.

DATES: Submit comments on or before Friday, October 29, 2021.

ADDRESSES: Comments must be submitted to imls-librarygrants@imls.gov.

SUPPLEMENTARY INFORMATION: Both the Enhancement Grants program and the Basic Grants program are designed to assist federally recognized Indian tribes in improving core library services for their communities. See https://www.imls.gov/grants/available/native-american-library-services-enhancement-grants and https://www.imls.gov/grants/available/native-american-library-services-basic-grants for details. IMLS is committed to the continuous improvement of all its grant programs and to minimizing grant-related application and administrative burdens for its applicants and awardees. The current structure requires every applicant for an Enhancement Grant program to also apply for a Basic Grant in the same year.

The Basic Grant program is designed to support library operations and core services, including library workforce training. The Enhancement Grant program is designed to support larger and more complex library projects, including preservation. For the Basic Grant program in Fiscal Year 2021, IMLS expects to award a total of $1,900,000, consisting of 192 individual awards ranging from $6,000 to $10,000. For the Enhancement Grant program, IMLS expects to award a total of $1,200,000, consisting of 20 individual awards ranging from $10,000 to $150,000.

The Basic Grant program is less competitive than the Enhancement Grant program because essentially every eligible Basic Grant applicant receives a grant; whereas Enhancement Grant applications compete against each other and not all applications receive an award. The two programs are also financially interdependent: Funding that is not awarded from the Basic Program pool is then added to the funding available for the Enhancement Program pool. For example, if not all of the FY21 $1,900,000 funding is awarded because IMLS receives fewer Basic Grant applications than anticipated, the balance of unawarded Basic Grant funds will then be made available to the Enhancement Grant funding pool (i.e., whatever is not awarded from the $1,900,000 Basic Grants pool is added to the $1,200,000 Enhancement Grant pool).

The original reason to have a Basic Grant before applying for an Enhancement Grant was to help ensure that all Tribes received at least a basic level of funding before larger, more complex projects were supported. However, this may place unnecessary application and grant administration burdens on applicants who wish to apply for, and carry out, only an Enhancement Grant. For example, such applicants may not want to apply for and administer a Basic Grant but are simply looking for a grant to support a larger project.

Eliminating the requirement to first apply for a Basic Grant would make it possible for Tribes to apply for an Enhancement Grant only and still allow them to apply for both an Enhancement Grant and a Basic Grant if they wish. This change is intended to give applicants the flexibility to apply for the grant(s) that best suit their needs.

Information Requested

IMLS invites input from all Tribal communities, including but not limited to individuals, Tribal governments, libraries, archives, museums, institutions of higher education, and cultural heritage centers.

Organizations are strongly encouraged to submit a single response that reflects the views of their organization and membership as a whole.

IMLS asks you to consider the following when reflecting on the proposed elimination of the requirement that Indian tribes wishing to apply for an Enhancement Grant apply first for a Basic Grant in the same year:

• How might the elimination of this requirement benefit the Tribe(s) with which you have close relationships?

• How might the elimination of this requirement harm or result in an unexpected negative consequence for the Tribe(s) with which you have close relationships?

• Taking the potential benefits and negative consequences into account, do you recommend we eliminate or keep the requirement as is?

• What other suggestions do you have for improving these two grant programs?

• What else would you like to see IMLS do to minimize the grant-related administrative burden for its applicants and awardees?

Responses

Responses to this RFI are voluntary. Please do not include any personally identifiable information or any information that you do not wish to make public. Proprietary, classified, confidential, or sensitive information should not be included in your response. The Government will use the information submitted in response to this RFI at its discretion. The Government reserves the right to use any submitted information on public websites, in reports, in any possible resultant solicitation(s), grant(s), or cooperative agreement(s), or in the development of future funding opportunity announcements.

This request is for information and planning purposes only and should not be construed as a solicitation or as an obligation on the part of the United States Government. IMLS will not make any awards based on responses to this RFI or pay for the preparation of any information submitted or for the Government's use of such information.

Dated: August 30, 2021.
Kim Miller,
Senior Grants Management Specialist, Institute of Museum and Library Services.

[FR Doc. 2021-19017 Filed 9-1-21; 8:45 am]

BILLING CODE 7036-01-P